DEPARTMENT OF HEALTH AND HUMAN SERVICES

Administration for Children and Families

Proposed Information Collection Activity; OCC Data Collection for Tribal Annual Report (Office of Management and Budget (OMB) #0970-0430)

AGENCY: Office of Child Care, Administration for Children and Families, Department of Health and Human Services.

ACTION: Request for public comments.

SUMMARY: The Administration for Children and Families (ACF) is requesting a three-year extension of the form ACF-700 Tribal Annual Report (OMB #0970-0430, Expiration date: January 31, 2023). No changes are proposed.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: On an annual basis, Tribal Lead Agencies for the Child Care and Development Fund (CCDF) are required to submit aggregate information on services provided via the CCDF Tribal Annual Report, also known as the ACF-700 report and offers the Office of Child Care (OCC) a glimpse into how CCDF program dollars are being spent. The ACF-700 report captures administrative data about the number of families and children served. The report also contains specific questions that gather programmatic information about Tribal quality activities, coordination of activities with other early childhood programs, use of funds, technical assistance needs, use of the Data Tracker software, and progress toward identified goals. The data derived from this report allows OCC to generate and analyze aggregate information, thereby giving OCC a more comprehensive understanding of Tribal program activities more easily. The data are essential for demonstrating the accomplishments of Tribal child care programs.

Respondents: Tribal Grantees receiving CCDF funding. Tribes that operate child care under Public Law 102-477 Indian Employment, Training, and Related Services Plan are exempt from the ACF-700.

Annual Burden Estimates
Instrument | Total number of respondents | Total number of responses per respondent | Average burden hours per response | Total burden hours | Annual burden hours
ACF-700 | 141 (Tribes with small allocations) | 3 | 19 | 7,866 | 2,622
ACF-700 | 78 (Tribes with medium/large allocations) | 3 | 26 | 6,474 | 2,158

Estimated Total Annual Burden Hours: 4,780.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9857.

Mary B. Jones,
ACF/OPRE Certifying Officer.

[FR Doc. 2022-16067 Filed 7-26-22; 8:45 am]

BILLING CODE 4184-43-P